DEPARTMENT OF ENERGY

Federal Energy Regulatory Commission

[Docket No. CP07-53-001]

Downeast Pipeline, LLC.; Supplemental Notice of Intent To Prepare an Environmental Impact Statement for the Proposed Downeast LNG Project and Request for Comments on Environmental Issues Related to the Modification of the Proposed Pipeline Route

February 13, 2008.

The staff of the Federal Energy Regulatory Commission (FERC or Commission) is preparing an environmental impact statement (EIS) that will discuss the environmental impacts of the Downeast Liquefied Natural Gas (LNG) Project proposed by Downeast LNG, Inc. and Downeast Pipeline, LLC (Downeast). The FERC is the lead federal agency in the preparation of the EIS, and is preparing the EIS in coordination with its cooperating agencies: the U.S. Army Corps of Engineers; the U.S. Department of Homeland Security, U.S. Coast Guard; the U.S. Environmental Protection Agency; the National Oceanic and Atmospheric Administration National Marine Fisheries Service; and the Maine Department of Environmental Protection. The EIS will be used by the Commission in its decision-making process to determine whether the project is in the public convenience and necessity.

This project was originally noticed by the FERC on March 13, 2006, with supplemental Notices of Intent on September 18, 2006 and December 1, 2006. This Supplemental Notice of Intent (NOI) discloses the modification of the proposed natural gas sendout pipeline route to avoid crossing the Moosehorn National Wildlife Refuge (NWR) and requests comments regarding the possible environmental impacts of this modification.

We ¹ are specifically requesting comments on the new Proposed Route Option 6. Your input will help identify the issues that need to be evaluated in the EIS. Further details on how to submit comments are provided in the Public Participation section of this NOI. Please note that comments for this NOI are requested by March 14, 2008.

¹ “We,” “us,” and “our” refer to the environmental staff of the FERC's Office of Energy Projects.

If you are a landowner receiving this notice, you may be contacted by a Downeast representative about the acquisition of a pipeline easement to construct, operate, and maintain the proposed facilities. Downeast would seek to negotiate a mutually acceptable agreement. However, if the pipeline is approved by the Commission, that approval conveys with it the right of eminent domain. Therefore, if easement negotiations fail to produce an agreement, Downeast could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov), using the “For Citizens” link.

This Supplemental NOI is being sent to Federal, State, and local government agencies; elected officials; affected landowners; environmental and public interest groups; Indian tribes; commentors and other interested parties; and local libraries and newspapers. We encourage government representatives to notify their constituents of this amendment to the planned project and encourage them to comment on their areas of concern.

Summary of the Proposed Project

The project would consist of an onshore LNG import and storage terminal located on the south side of Mill Cove in the Town of Robbinston near the confluence of Passamaquoddy Bay and the St. Croix River in Washington County, Maine; and an approximately 30-mile-long natural gas sendout pipeline extending from the terminal to the existing Maritimes & Northeast (M&NE) pipeline system at the Baileyville, Maine Compressor Station.

The proposed amended route (Option 6) consists of the following:

• Approximately 29.8 miles of 30-inch-diameter natural gas transmission pipeline;

• Natural gas metering facilities;

• Pigging facilities; and

• Three mainline block valves.

The total length of Option 6 is approximately 1.2 miles shorter than the previously proposed route (Option 4). The new section of the pipeline around the Moosehorn NWR is approximately 7.5 miles in length.

Option 6 would follow the Option 4 route from milepost (MP) 0.0 to MP 10.2. Option 6 would depart from the Option 4 alignment at MP 10.2 and proceed northwest for approximately 1.4 miles, travel west for approximately 0.75 mile, and then run north for approximately 0.5 mile to Magurrewock Mountain. The route would then proceed on the south side of Magurrewock Mountain and cross U.S. Route 1. The route would then cross under the St. Croix River using a staged horizontal directional drill from MP 14.1 to MP 15.3. At MP 15.3, the alignment would parallel the Maine Central Railroad corridor along the St. Croix River. At MP 16.2, the pipeline would turn south away from the railroad corridor, turn southwest, and parallel U.S. Route 1 for approximately 1.3 miles. At MP 17.7, the new route would intersect the Option 4 alignment along the existing Eastern Maine Electrical Cooperative electrical transmission line corridor. Thereafter, Option 6 follows the Option 4 alignment to its endpoint at the existing M&NE Baileyville Compressor Station. In addition, Option 6 has minor route variations from the Option 4 alignment at MP 2.4, 8.5, 25.5, and 27.2.

There would be three mainline valve (MLV) stations on the Option 6 route. The MLV to be constructed on the LNG terminal site at the start of the sendout pipeline remains unchanged. The second MLV would be located at MP 16.85. This location is north of U.S. Route 1 and east of the intersection of U.S. Route 1 and Maine Route 191. It is an area that has been previously disturbed by commercial logging activities and would require only minimal clearing for construction of the facility. An access road to the MLV would be required from U.S. Route 1. The MLV and pigging facilities at the terminus of the sendout pipeline to be located at MP 29.8 within the Baileyville Compressor Station property boundary remains unchanged.

A map depicting the original Option 4 route and the proposed Option 6 route is included in Appendix 1.²

² The appendices referenced in this notice are not being printed in the Federal Register. Copies are available on the Commission's Web site at the “e-Library” link or from the Commission's Public Reference Room, 888 First Street, NE., Washington, DC 20426, or call (202) 502-8371. For instructions on connecting to e-Library, refer to the “Additional Information” section of this notice. Copies of the appendices were sent to all those receiving this notice in the mail.

Public Participation

You can make a difference by providing us with your specific comments or concerns about this amendment to the planned project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Kimberly D. Bose, Secretary, Federal Energy Regulatory Commission, 888 First Street, NE., Room 1A, Washington, DC 20426.

• Label one copy of your comments for the attention of OEP/DG2E/Gas Branch 3.

• Reference Docket No. CP07-53-001 on the original and both copies.

• Mail your comments so that they will be received in Washington, DC on or before March 14, 2008.

The Commission strongly encourages electronic filing of any comments in response to this NOI. For information on electronically filing comments, please see the instructions on the Commission's Web site at http://www.ferc.gov under the “e-Filing” link and the link to the User's Guide as well as information in 18 CFR 385.2001(a)(1)(iii). Before you can file comments, you will need to create a free account, which can be accomplished on-line.

Becoming an Intervenor

In addition to involvement in the EIS scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding.

If you want to become an intervenor you must file a motion to intervene according to Rule 214 of the Commission's Rules of Practice and Procedure (18 CFR 385.214).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

All commentors will be retained on our mailing list. If you do not want to send comments at this time but still want to keep informed and receive copies of the Draft and Final EISs, you must return the Mailing List Retention Form (Appendix 2). Also, indicate on the form your preference for receiving a paper version in lieu of an electronic version of the EIS on CD-ROM. If you do not return this form, we will remove your name from our mailing list.

Please note, if you have previously submitted comments or returned a Mailing List Retention Form, you are already on our mailing list and do not need to re-submit comments or a Mailing List Retention Form.

Additional Information

Additional information about the project is available from the Commission's Office of External Affairs at 1-866-208-FERC (3372) or on the FERC Internet Web site (http://www.ferc.gov) using the “eLibrary link.” Click on the eLibrary link, select “General Search” and enter the project docket number excluding the last three digits (i.e., CP07-53) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Downeast has established an Internet Web site for this project at http://www.downeastlng.com. The Web site includes a project overview, status, and answers to frequently asked questions. You can also request additional information by emailing Downeast at info@downeastlng.com.

Kimberly D. Bose,
Secretary.

[FR Doc. E8-3119 Filed 2-19-08; 8:45 am]

BILLING CODE 6717-01-P